DEPARTMENT OF COMMERCE

Foreign-Trade Zones Board

[Docket 46-2009]

Foreign-Trade Zone 265—Conroe, TX; Application for Subzone; Materials Science Technology, Inc.; (Elastomer and Fire Retardant Chemical Manufacturing); Conroe, TX

An application has been submitted to the Foreign-Trade Zones Board (the Board) by the City of Conroe, grantee of FTZ 265, requesting special-purpose subzone status for the elastomer manufacturing facility of Materials Science Technology, Inc, (MST), located in Conroe, Texas. The application was submitted pursuant to the provisions of the Foreign-Trade Zones Act, as amended (19 U.S.C. 81a-81u), and the regulations of the Board (15 CFR part 400). It was formally filed on October 27, 2009.

MST's facility (20 employees, 10,000 square feet of enclosed space) is located at 3607 North Loop 336 West, Conroe, Texas. The facility is used for the research, development, manufacturing, warehousing and distribution of a polyphosphazene elastomer intermediate which will be used in aerospace, oil and gas production, and medical device applications. Current annual production capacity is 15 metric tons with projections up to 100 metric tons. The request indicates that the manufacturing process also produces a fire-retardant chemical by-product. Components and materials sourced from abroad (representing some 20% of the value of the finished product) include: octafluoropentanol, trifluoroethanol, and phosphonitrilic chloride trimer (duty rates range from 2.8% to 5.5%).

FTZ procedures could exempt MST from customs duty payments on the foreign components used in export production. The company anticipates that some 50 percent of the plant's shipments will be exported. On its domestic sales, MST would be able to choose the duty rates during customs entry procedures that apply to the elastomer (duty-free) and the fire-retardant chemical (2.8%) for the foreign inputs noted above. FTZ designation would further allow MST to realize logistical benefits through certain customs procedures. The request indicates that the savings from FTZ procedures would help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is January 4, 2010. Rebuttal comments in response to material submitted during the foregoing period may be submitted during the subsequent 15-day period to January 19, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane_Finver@ita.doc.gov (202) 482-1367.

Dated: October 27, 2009.
Andrew McGilvray,
Executive Secretary.

[FR Doc. E9-26538 Filed 11-3-09; 8:45 am]

BILLING CODE P